DEPARTMENT OF TRANSPORTATION

Surface Transportation Board

[STB Finance Docket No. 34501]

James Riffin d/b/a The Northern Central Railroad—Acquisition and Operation Exemption—in York County, PA

James Riffin d/b/a The Northern Central Railroad (NCR), a noncarrier, has filed a verified notice of exemption under 49 CFR 1150.31 to acquire from the Commissioners of York County, PA, and operate approximately 19 miles of rail line, known as USRA Line 145, between milepost 35.6 (at or near the Maryland/Pennsylvania line) and milepost 54.6 (Hyde), in York County, PA. NCR proposes to interchange with the Genesee and Wyoming Railroad.

NCR certifies that its projected annual revenues as a result of this transaction will not exceed those that would qualify it as a Class III rail carrier and states that such revenues will not exceed $5 million annually. NCR intends to commence these activities within 90 days from the date the notice of exemption was filed (April 28, 2004).

This notice is applicant's second attempt to acquire similar authority. In James Riffin d/b/a The Northern Central Railroad-Acquisition and Operation Exemption-in York County, PA and Baltimore County, MD, STB Finance Docket No. 34484 (STB served and published in the Federal Register Apr. 7, 2004) (69 FR 18420), applicant sought authorization to acquire two line segments in Baltimore County, MD, in addition to a slightly longer version of the line involved herein. However, in a decision in that proceeding served on April 20, 2004, the Board revoked the exemption stating that issues raised by the State of Maryland could not be answered under the expedited “class exemption” process. NCR was advised that if it sought to pursue the matter it should provide more detailed information in the form of an individual exemption petition under 49 U.S.C. 10502 and 49 CFR 1121, or a full application under 49 U.S.C. 10901 and 49 CFR 1150, as those procedures are designed to elicit a more complete record. NCR instead chose to file this notice for the necessary authority to acquire and operate the described line in York County in the event that it is able to reach an agreement with the Commissioners of York County for that acquisition.

If the verified notice contains false or misleading information, the exemption is void ab initio. Petitions to revoke the exemption under 49 U.S.C. 10502(d) may be filed at any time. The filing of a petition to revoke will not automatically stay the transaction.

An original and 10 copies of all pleadings, referring to STB Finance Docket No. 34501, must be filed with the Surface Transportation Board, 1925 K Street, NW., Washington, DC 20423-0001. In addition, a copy of each pleading must be served on James Riffin, 1941 Greenspring Drive, Timonium, MD 21093.

Board decisions and notices are available on our Web site at http://www.stb.dot.gov.

Decided: May 13, 2004.
By the Board, David M. Konschnik, Director, Office of Proceedings.
Vernon A. Williams,
Secretary.

[FR Doc. 04-11327 Filed 5-19-04; 8:45 am]

BILLING CODE 4915-01-P